DEPARTMENT OF THE TREASURY

Office of Foreign Assets Control

31 CFR Chapter V

Blocked Persons, Specially Designated Nationals, Specially Designated Terrorists, Foreign Terrorist Organizations, and Specially Designated Narcotics Traffickers; Addition of Persons Blocked Pursuant to 31 CFR Part 538, 31 CFR Part 597, or Executive Order 13129

AGENCY: Office of Foreign Assets Control, Treasury.

ACTION: Amendment of final rule.

SUMMARY: The Treasury Department is amending appendix A to 31 CFR chapter V to revise the names of the foreign terrorist organizations whose funds are required to be blocked by U.S. financial institutions; add the names of the Taliban and three entities and one individual determined to be owned or controlled by, or to act for or on behalf of, the Taliban in Afghanistan; and add the names of two entities determined to be owned or controlled by, or to act for or on behalf of, the Government of Sudan.

EFFECTIVE DATE: June 20, 2000.

FOR FURTHER INFORMATION CONTACT: Office of Foreign Assets Control, Department of the Treasury, Washington, DC 22201; tel.: 202/622-2420.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat” readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

In furtherance of section 303 of the Antiterrorism and Effective Death Penalty Act of 1996, Public Law 104-132, 110 Stat. 1214-1319 (the “Act”), implemented in part by the Foreign Terrorist Organizations Sanctions Regulations, 31 CFR part 597 (62 FR 52493, Oct. 8, 1997—the “FTOSR”) the Office of Foreign Assets Control is revising the list of foreign terrorist organizations (“FTOs”) in appendix A to 31 CFR chapter V. Section 303 of the Act (new 18 U.S.C. 2339B), as implemented in § 597.201 of the FTOSR, requires financial institutions in possession or control of funds in which a foreign terrorist organization or its agent has an interest to block such funds except as authorized pursuant to the FTOSR, and to file reports in accordance with the FTOSR. Financial institutions that violate 18 U.S.C. 2339B(a)(2) and the FTOSR are subject to civil penalties administered by the Treasury Department.

Twenty-seven FTOs were redesignated, and one organization was designated, by the Secretary of State in a notice published in the Federal Register on October 8, 1999 (64 FR 55112) pursuant to section 302 of the Act (new 8 U.S.C. 1189), which authorizes the Secretary of State, in consultation with the Secretary of the Treasury and the Attorney General, to designate and redesignate organizations meeting stated requirements as FTOs, with prior notification to Congress of the intent to designate. Appendix A contains the names of blocked persons, specially designated nationals, specially designated terrorists, foreign terrorist organizations, and specially designated narcotics traffickers designated pursuant to the various economic sanctions programs administered by the Office of Foreign Assets Control.

Pursuant to Executive Order 13129 of July 4, 1999 (64 FR 36759), “Blocking Property and Prohibiting Transactions with the Taliban,” the Treasury Department is adding the Taliban, three entities and one individual determined to be owned or controlled by, or to act for or on behalf of, the Taliban in Afghanistan. These persons are hereafter referred to as “blocked persons.”

Finally, pursuant to the Sudan Sanctions Regulations, 31 CFR part 538, the Treasury Department is adding the names of two entities determined to be owned or controlled by, or to act for or on behalf of, the Government of Sudan. These persons are hereafter referred to as “specially designated nationals” or “SDNs.”

Since this rule involves a foreign affairs function, the provisions of Executive Order 12866 and the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 18 U.S.C. 2339B, 31 U.S.C. 321(b), 50 U.S.C. 1701-1706, and E.O. 13129 (64 FR 36759), the appendixes to 31 CFR chapter V are amended as set forth below:

Appendixes to Chapter V

1. The notes to the appendixes to chapter V are amended by amending note 6 to add the following entry inserted in alphabetical order to read as follows:

Notes: * * *

* * * * *

[TALIBAN]: Executive Order 13129, 64 FR 36759, July 7, 1999;

* * * * *

2. Appendix A is amended by removing all entries that end in “[FTO]” and by adding the following entries inserted in numerical or alphabetical order to read as follows:

* * * * *

17 NOVEMBER (see REVOLUTIONARY ORGANIZATION 17 NOVEMBER) [FTO]

ABU GHUNAYM SQUAD OF THE HIZBALLAH BAYT AL-MAQDIS (see PALESTINE ISLAMIC JIHAD-SHAQAQI FACTION) [SDT, FTO]

ABU NIDAL ORGANIZATION (a.k.a. ANO; a.k.a. BLACK SEPTEMBER; a.k.a. FATAH REVOLUTIONARY COUNCIL; a.k.a. ARAB REVOLUTIONARY COUNCIL; a.k.a. ARAB REVOLUTIONARY BRIGADES; a.k.a. REVOLUTIONARY ORGANIZATION OF SOCIALIST MUSLIMS) [SDT, FTO]

ABU SAYYAF GROUP (a.k.a. AL HARAKAT AL ISLAMIYYA) [FTO]

AFGHAN NATIONAL BANK (see BANKE MILLIE AFGHAN) [TALIBAN]

THE AFGHAN STATE BANK (see DA AFGHANISTAN BANK) [TALIBAN]

A.I.C. COMPREHENSIVE RESEARCH INSTITUTE (see AUM SHINRIKYO) [FTO]

A.I.C. SOGO KENKYUSHO (see AUM SHINRIKYO) [FTO]

AIIB (see JAPANESE RED ARMY) [FTO]

AL-FARAN (see HARAKAT UL-MUJAHIDEEN) [FTO]

AL-GAMA'AT (see GAMA'A AL-ISLAMIYYA) [SDT, FTO]

AL-HADID (see HARAKAT UL-MUJAHIDEEN) [FTO]

AL-HADITH (see HARAKAT UL-MUJAHIDEEN) [FTO]

AL HARAKAT AL ISLAMIYYA (see ABU SAYYAF GROUP) [FTO]

AL-JAMA'AH AL-ISLAMIYAH AL-MUSALLAH (see ARMED ISLAMIC GROUP) [FTO]

AL-JIHAD (a.k.a. EGYPTIAN AL-JIHAD; a.k.a. NEW JIHAD; a.k.a. EGYPTIAN ISLAMIC JIHAD; a.k.a. JIHAD GROUP) [SDT, FTO]

AL QAEDA (see AL QA'IDA) [SDT, FTO]

AL QA'IDA (a.k.a. AL QAEDA; a.k.a. “The BASE”; a.k.a. ISLAMIC ARMY; a.k.a. WORLD ISLAMIC FRONT FOR JIHAD AGAINST JEWS AND CRUSADERS; a.k.a. ISLAMIC ARMY FOR THE LIBERATION OF THE HOLY PLACES; a.k.a. USAMA BIN LADEN NETWORK; a.k.a. USAMA BIN LADEN ORGANIZATION; a.k.a. ISLAMIC SALVATION FOUNDATION; a.k.a. THE GROUP FOR THE PRESERVATION OF THE HOLY SITES) [SDT, FTO]

ANO (see ABU NIDAL ORGANIZATION) [SDT, FTO]

ANSAR ALLAH (see HIZBALLAH) [SDT, FTO]

ANTI-IMPERIALIST INTERNATIONAL BRIGADE (see JAPANESE RED ARMY) [FTO]

ANTI-WAR DEMOCRATIC FRONT (see JAPANESE RED ARMY) [FTO]

ARAB REVOLUTIONARY BRIGADES (see ABU NIDAL ORGANIZATION) [SDT, FTO]

ARAB REVOLUTIONARY COUNCIL (see ABU NIDAL ORGANIZATION) [SDT, FTO]

ARIANA AFGHAN AIRLINES (f.k.a. BAKHTAR AFGHAN AIRLINES), Afghan Authority Building, P.O. Box 76, Ansari Watt, Kabul, Afghanistan [TALIBAN]

ARMED ISLAMIC GROUP (AIG) (a.k.a. GIA; a.k.a. GROUPEMENT ISLAMIQUE ARME; a.k.a. AL-JAMA'AH AL-ISLAMIYAH AL-MUSALLAH) [FTO]

AUM SHINRIKYO (a.k.a. AUM SUPREME TRUTH; a.k.a. A.I.C. SOGO KENKYUSHO; a.k.a. A.I.C. COMPREHENSIVE RESEARCH INSTITUTE) [FTO]

AUM SUPREME TRUTH (see AUM SHINRIKYO) [FTO]

BAKHTAR AFGHAN AIRLINES (see ARIANA AFGHAN AIRLINES) [TALIBAN]

BANK E. MILLIE AFGHAN (see BANKE MILLIE AFGHAN) [TALIBAN]

BANK OF AFGHANISTAN (see DA AFGHANISTAN BANK) [TALIBAN]

BANKE MILLIE AFGHAN (a.k.a. AFGHAN NATIONAL BANK; a.k.a. BANK E. MILLIE AFGHAN) Jada Ibn Sina, Kabul, Afghanistan [TALIBAN]

“The BASE” (see AL QA'IDA) [SDT, FTO]

BASQUE FATHERLAND AND LIBERTY (a.k.a. EUZKADI TA ASKATASUNA; a.k.a. ETA) [FTO]

BLACK SEPTEMBER (see ABU NIDAL ORGANIZATION) [SDT, FTO]

CENTRAL BANK OF AFGHANISTAN (see DA AFGHANISTAN BANK) [TALIBAN]

COMMITTEE FOR THE SAFETY OF THE ROADS (see KACH) [SDT, FTO]

DA AFGHANISTAN BANK (a.k.a. BANK OF AFGHANISTAN; a.k.a. CENTRAL BANK OF AFGHANISTAN; a.k.a. THE AFGHAN STATE BANK), Ibni Sina Wat, Kabul, Afghanistan [TALIBAN]

DEMOCRATIC FRONT FOR THE LIBERATION OF PALESTINE (see DEMOCRATIC FRONT FOR THE LIBERATION OF PALESTINE—HAWATMEH FACTION) [SDT]

DEMOCRATIC FRONT FOR THE LIBERATION OF PALESTINE—HAWATMEH FACTION (a.k.a. DEMOCRATIC FRONT FOR THE LIBERATION OF PALESTINE, a.k.a. DFLP, a.k.a. RED STAR FORCES, a.k.a. RED STAR BATTALIONS) [SDT]

DEV SOL (see REVOLUTIONARY PEOPLE'S LIBERATION PARTY/FRONT) [FTO]

DEV SOL ARMED REVOLUTIONARY UNITS (see REVOLUTIONARY PEOPLE'S LIBERATION PARTY/FRONT) [FTO]

DEV SOL SDB (see REVOLUTIONARY PEOPLE'S LIBERATION PARTY/FRONT) [FTO]

DEV SOL SILAHLI DEVRIMCI BIRLIKLERI (see REVOLUTIONARY PEOPLE'S LIBERATION PARTY/FRONT) [FTO]

DEVRIMCI HALK KURTULUS PARTISI-CEPHESI (see REVOLUTIONARY PEOPLE'S LIBERATION PARTY/FRONT) [FTO]

DEVRIMCI SOL (see REVOLUTIONARY PEOPLE'S LIBERATION PARTY/FRONT) [FTO]

DFLP (see DEMOCRATIC FRONT FOR THE LIBERATION OF PALESTINE—HAWATMEH FACTION) [SDT]

DHKP/C (see REVOLUTIONARY PEOPLE'S LIBERATION PARTY/FRONT)

DIKUY BOGDIM (see KACH) [SDT, FTO]

DOV (see KACH) [SDT, FTO]

EGP (see SHINING PATH) [FTO]

EGYPTIAN AL-GAMA'AT AL-ISLAMIYYA (see GAMA'A AL-ISLAMIYYA) [SDT, FTO]

EGYPTIAN AL-JIHAD (see AL-JIHAD) [SDT, FTO]

EGYPTIAN ISLAMIC JIHAD (see AL-JIHAD) [SDT, FTO]

EJERCITO DE LIBERACION NACIONAL (see NATIONAL LIBERATION ARMY) [FTO]

EJERCITO GUERRILLERO POPULAR (PEOPLE'S GUERRILLA ARMY) (see SHINING PATH) [FTO]

EJERCITO POPULAR DE LIBERACION (PEOPLE'S LIBERATION ARMY) (see SHINING PATH) [FTO]

ELA (see REVOLUTIONARY PEOPLE'S STRUGGLE) [FTO]

ELLALAN FORCE (see LIBERATION TIGERS OF TAMIL EELAM) [FTO]

ELN (see NATIONAL LIBERATION ARMY) [FTO]

EPANASTATIKI ORGANOSI 17 NOEMVRI (see REVOLUTIONARY ORGANIZATION 17 NOVEMBER) [FTO]

EPANASTATIKOS LAIKOS AGONAS (see REVOLUTIONARY PEOPLE'S STRUGGLE) [FTO]

EPL (see SHINING PATH) [FTO]

ETA (see BASQUE FATHERLAND AND LIBERTY) [FTO]

EUZKADI TA ASKATASUNA (see BASQUE FATHERLAND AND LIBERTY) [FTO]

FARC (see REVOLUTIONARY ARMED FORCES OF COLOMBIA) [FTO]

FATAH REVOLUTIONARY COUNCIL (see ABU NIDAL ORGANIZATION) [SDT, FTO]

FOLLOWERS OF THE PROPHET MUHAMMED (see HIZBALLAH) [SDT, FTO]

FOREFRONT OF THE IDEA (see KACH) [SDT, FTO]

FUERZAS ARMADAS REVOLUCIONARIAS DE COLOMBIA (see REVOLUTIONARY ARMED FORCES OF COLOMBIA) [FTO]

GAMA'A AL-ISLAMIYYA (a.k.a. ISLAMIC GROUP; a.k.a. IG; a.k.a. AL-GAMA'AT; a.k.a. ISLAMIC GAMA'AT; a.k.a. EGYPTIAN AL-GAMA'AT AL-ISLAMIYYA; a.k.a. GI) [SDT, FTO]

GI (see GAMA'A AL-ISLAMIYYA) [SDT, FTO]

GIA (see ARMED ISLAMIC GROUP) [FTO]

GNPOC (see GREATER NILE PETROLEUM OPERATING COMPANY LIMITED) [SUDAN]

GREATER NILE PETROLEUM OPERATING COMPANY LIMITED (a.k.a. GNPOC), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN]

THE GROUP FOR THE PRESERVATION OF THE HOLY SITES (see AL QA'IDA) [SDT, FTO]

GROUPEMENT ISLAMIQUE ARME (see ARMED ISLAMIC GROUP) [FTO]

HALHUL GANG (see POPULAR FRONT FOR THE LIBERATION OF PALESTINE) [SDT, FTO]

HALHUL SQUAD (see POPULAR FRONT FOR THE LIBERATION OF PALESTINE) [SDT, FTO]

HAMAS (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT, FTO]

HARAKAT AL-MUQAWAMA AL-ISLAMIYA (see HAMAS) [SDT, FTO]

HARAKAT UL-ANSAR (see HARAKAT UL-MUJAHIDEEN) [FTO]

HARAKAT UL-MUJAHIDEEN (a.k.a. HUM; a.k.a. HARAKAT UL-ANSAR; a.k.a. HUA; a.k.a. AL-HADID; a.k.a. AL-HADITH; a.k.a. AL-FARAN) [FTO]

HIZBALLAH (a.k.a. PARTY OF GOD; a.k.a. ISLAMIC JIHAD; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. ANSAR ALLAH; a.k.a. FOLLOWERS OF THE PROPHET MUHAMMED) [SDT, FTO]

HOLY WAR BRIGADE (see JAPANESE RED ARMY) [FTO]

HUA (see HARAKAT UL-MUJAHIDEEN) [FTO]

HUM (see HARAKAT UL-MUJAHIDEEN) [FTO]

IG (see GAMA'A AL-ISLAMIYYA) [SDT, FTO]

ISLAMIC ARMY (see AL QA'IDA) [SDT, FTO]

ISLAMIC ARMY FOR THE LIBERATION OF THE HOLY PLACES (see AL QA'IDA) [SDT, FTO]

ISLAMIC GAMA'AT (see GAMA'A AL-ISLAMIYYA) [SDT, FTO]

ISLAMIC GROUP (see GAMA'A AL-ISLAMIYYA) [ SDT, FTO]

ISLAMIC JIHAD (see HIZBALLAH) [SDT, FTO]

ISLAMIC JIHAD FOR THE LIBERATION OF PALESTINE (see HIZBALLAH) [SDT, FTO]

ISLAMIC JIHAD IN PALESTINE (see PALESTINE ISLAMIC JIHAD-SHAQAQI FACTION) [SDT, FTO]

ISLAMIC JIHAD OF PALESTINE (see PALESTINE ISLAMIC JIHAD-SHAQAQI FACTION) [SDT, FTO]

ISLAMIC JIHAD ORGANIZATION (see HIZBALLAH) [SDT, FTO]

ISLAMIC MOVEMENT OF TALIBAN (see TALIBAN) [TALIBAN]

ISLAMIC RESISTANCE MOVEMENT (see HAMAS) [SDT, FTO]

ISLAMIC SALVATION FOUNDATION (see AL QA'IDA) [SDT, FTO]

IZZ AL-DIN AL QASSAM BATTALIONS (see HAMAS) [SDT, FTO]

IZZ AL-DIN AL QASSAM BRIGADES (see HAMAS) [SDT, FTO]

IZZ AL-DIN AL QASSAM FORCES (see HAMAS) [SDT, FTO]

IZZ AL-DIN AL-QASSIM BATTALIONS (see HAMAS) [SDT, FTO]

IZZ AL-DIN AL-QASSIM BRIGADES (see HAMAS) [SDT, FTO]

IZZ AL-DIN AL-QASSIM FORCES (see HAMAS) [SDT, FTO]

JAPANESE RED ARMY (a.k.a. NIPPON SEKIGUN; a.k.a. NIHON SEKIGUN; a.k.a. ANTI-IMPERIALIST INTERNATIONAL BRIGADE; a.k.a. HOLY WAR BRIGADE; a.k.a. ANTI-WAR DEMOCRATIC FRONT; a.k.a. JRA; a.k.a. AIIB) [FTO]

JIHAD GROUP (see AL-JIHAD) [SDT, FTO]

JRA (see JAPANESE RED ARMY) [FTO]

JUDEA POLICE (see KACH) [SDT, FTO]

THE JUDEAN LEGION (see KAHANE CHAI) [SDT, FTO]

THE JUDEAN VOICE (see KAHANE CHAI) [SDT, FTO]

JUNE 78 (see REVOLUTIONARY PEOPLE'S STRUGGLE) [FTO]

KACH (a.k.a. REPRESSION OF TRAITORS; a.k.a. DIKUY BOGDIM; a.k.a. DOV; a.k.a. STATE OF JUDEA; a.k.a. COMMITTEE FOR THE SAFETY OF THE ROADS; a.k.a. SWORD OF DAVID; a.k.a. JUDEA POLICE; a.k.a. FOREFRONT OF THE IDEA; a.k.a. THE QOMEMIYUT MOVEMENT; a.k.a. THE YESHIVA OF THE JEWISH IDEA) [SDT, FTO]

KAHANE CHAI (a.k.a. KAHANE LIVES; a.k.a. KFAR TAPUAH FUND; a.k.a. THE JUDEAN VOICE; a.k.a. THE JUDEAN LEGION; a.k.a. THE WAY OF THE TORAH; a.k.a. THE YESHIVA OF THE JEWISH IDEA; a.k.a. KOACH) [SDT, FTO]

KAHANE LIVES (see KAHANE CHAI) [SDT, FTO]

KFAR TAPUAH FUND (see KAHANE CHAI) [SDT, FTO]

KOACH (see KAHANE CHAI) [SDT, FTO]

KURDISTAN WORKERS‘ PARTY (a.k.a. PKK; a.k.a. PARTIYA KARKERAN KURDISTAN) [FTO]

LIBERATION STRUGGLE (see REVOLUTIONARY PEOPLE'S STRUGGLE) [FTO]

LIBERATION TIGERS OF TAMIL EELAM (a.k.a. LTTE; a.k.a. TAMIL TIGERS; a.k.a. ELLALAN FORCE) [FP-2]

LTTE (see LIBERATION TIGERS OF TAMIL EELAM) [FTO]

MEK (see MUJAHEDIN-E KHALQ ORGANIZATION) [FTO]

MKO (see MUJAHEDIN-E KHALQ ORGANIZATION) [FTO]

MOVIMIENTO REVOLUCIONARIO TUPAC AMARU (see TUPAC AMARU REVOLUTIONARY MOVEMENT) [FTO]

MRTA (see TUPAC AMARU REVOLUTIONARY MOVEMENT) [FTO]

MUJAHEDIN-E KHALQ (see MUJAHEDIN-E KHALQ ORGANIZATION) [FTO] MUJAHEDIN-E KHALQ ORGANIZATION (a.k.a. MEK; a.k.a. MKO; a.k.a. MUJAHEDIN-E KHALQ; a.k.a. PEOPLE'S MUJAHEDIN ORGANIZATION OF IRAN; a.k.a. PMOI; a.k.a. ORGANIZATION OF THE PEOPLE'S HOLY WARRIORS OF IRAN; a.k.a. SAZEMAN-E MUJAHEDIN-E KHALQ-E IRAN; a.k.a. NATIONAL COUNCIL OF RESISTANCE (NCR); a.k.a. NATIONAL LIBERATION ARMY OF IRAN; a.k.a. NLA) [FTO]

NATIONAL COUNCIL OF RESISTANCE (NCR) (see MUJAHEDIN-E KHALQ ORGANIZATION) [FTO]

NATIONAL LIBERATION ARMY (a.k.a. ELN; a.k.a. EJERCITO DE LIBERACION NACIONAL) [FTO]

NATIONAL LIBERATION ARMY OF IRAN (see MUJAHEDIN-E KHALQ ORGANIZATION) [FTO]

NEW JIHAD (see AL-JIHAD) [SDT, FTO]

NIHON SEKIGUN (see JAPANESE RED ARMY) [FTO]

NIPPON SEKIGUN (see JAPANESE RED ARMY) [FTO]

NLA (see MUJAHEDIN-E KHALQ ORGANIZATION) [FTO]

OMAR, Mohammed, Commander of the Faithful (“Amir al-Mumineen”), Kandahar, Afghanistan; DOB 1950; POB Hotak, Kandahar Province, Afghanistan (individual) [TALIBAN]

ORGANIZATION OF REVOLUTIONARY INTERNATIONALIST SOLIDARITY (see REVOLUTIONARY PEOPLE'S STRUGGLE) [FTO]

ORGANIZATION OF RIGHT AGAINST WRONG (see HIZBALLAH) [SDT, FTO]

ORGANIZATION OF THE OPPRESSED ON EARTH (see HIZBALLAH) [SDT, FTO]

ORGANIZATION OF THE PEOPLE'S HOLY WARRIORS OF IRAN (see MUJAHEDIN-E KHALQ ORGANIZATION) [FTO]

PALESTINE ISLAMIC JIHAD-SHAQAQI FACTION (a.k.a. PIJ-SHAQAQI FACTION; a.k.a. PIJ-SHALLAH FACTION; a.k.a. PALESTINIAN ISLAMIC JIHAD; a.k.a. PIJ; a.k.a. ISLAMIC JIHAD OF PALESTINE; a.k.a. ISLAMIC JIHAD IN PALESTINE; a.k.a. ABU GHUNAYM SQUAD OF THE HIZBALLAH BAYT AL-MAQDIS) [SDT, FTO]

PALESTINE LIBERATION FRONT (see PALESTINE LIBERATION FRONT—ABU ABBAS FACTION) [SDT, FTO]

PALESTINE LIBERATION FRONT—ABU ABBAS FACTION (a.k.a. PALESTINE LIBERATION FRONT; a.k.a. PLF; a.k.a. PLF-ABU ABBAS) [SDT, FTO]

PALESTINIAN ISLAMIC JIHAD (see PALESTINE ISLAMIC JIHAD-SHAQAQI FACTION) [SDT, FTO]

PARTIDO COMUNISTA DEL PERU (COMMUNIST PARTY OF PERU) (see SHINING PATH) [FTO]

PARTIDO COMUNISTA DEL PERU EN EL SENDERO LUMINOSO DE JOSE CARLOS MARIATEGUI (COMMUNIST PARTY OF PERU ON THE SHINING PATH OF JOSE CARLOS MARIATEGUI) (see SHINING PATH) [FTO]

PARTIYA KARKERAN KURDISTAN (see KURDISTAN WORKERS’ PARTY) [FTO]

PARTY OF GOD (see HIZBALLAH) [SDT, FTO]

PCP (see SHINING PATH) [FTO]

PEOPLE'S MUJAHEDIN ORGANIZATION OF IRAN (see MUJAHEDIN-E KHALQ ORGANIZATION) [FTO]

PFLP (see POPULAR FRONT FOR THE LIBERATION OF PALESTINE) [SDT, FTO]

PFLP-GC (see POPULAR FRONT FOR THE LIBERATION OF PALESTINE-GENERAL COMMAND) [SDT, FTO]

PIJ (see PALESTINE ISLAMIC JIHAD-SHAQAQI FACTION) [SDT, FTO]

PIJ-SHALLAH FACTION (see PALESTINE ISLAMIC JIHAD-SHAQAQI FACTION) [SDT, FTO]

PIJ-SHAQAQI FACTION (see PALESTINE ISLAMIC JIHAD-SHAQAQI FACTION) [SDT, FTO]

PKK (see KURDISTAN WORKERS’ PARTY) [FTO]

PLF (see PALESTINE LIBERATION FRONT—ABU ABBAS FACTION) [SDT, FTO]

PLF-ABU ABBAS (see PALESTINE LIBERATION FRONT—ABU ABBAS FACTION) [SDT, FTO]

PMOI (see MUJAHEDIN-E KHALQ ORGANIZATION) [FTO]

POPULAR FRONT FOR THE LIBERATION OF PALESTINE (a.k.a. PFLP; a.k.a. RED EAGLES; a.k.a. RED EAGLE GROUP; a.k.a. RED EAGLE GANG; a.k.a. HALHUL GANG; a.k.a. HALHUL SQUAD) [SDT, FTO]

POPULAR FRONT FOR THE LIBERATION OF PALESTINE-GENERAL COMMAND (a.k.a. PFLP-GC) [SDT, FTO]

POPULAR REVOLUTIONARY STRUGGLE (see REVOLUTIONARY PEOPLE'S STRUGGLE) [FTO]

THE QOMEMIYUT MOVEMENT (see KACH) [SDT, FTO]

RED EAGLE GANG (see POPULAR FRONT FOR THE LIBERATION OF PALESTINE) [SDT, FTO]

RED EAGLE GROUP (see POPULAR FRONT FOR THE LIBERATION OF PALESTINE) [SDT, FTO]

RED EAGLES (see POPULAR FRONT FOR THE LIBERATION OF PALESTINE) [SDT, FTO]

RED STAR BATTALIONS (see DEMOCRATIC FRONT FOR THE LIBERATION OF PALESTINE—HAWATMEH FACTION) [SDT]

RED STAR FORCES (see DEMOCRATIC FRONT FOR THE LIBERATION OF PALESTINE—HAWATMEH FACTION) [SDT]

REPRESSION OF TRAITORS (see KACH) [SDT, FTO]

REVOLUTIONARY ARMED FORCES OF COLOMBIA (a.k.a. FARC; a.k.a. FUERZAS ARMADAS REVOLUCIONARIAS DE COLOMBIA) [FTO]

REVOLUTIONARY CELLS (see REVOLUTIONARY PEOPLE'S STRUGGLE) [FTO]

REVOLUTIONARY JUSTICE ORGANIZATION (see HIZBALLAH) [SDT, FTO]

REVOLUTIONARY LEFT (see REVOLUTIONARY PEOPLE'S LIBERATION PARTY/FRONT) [FTO]

REVOLUTIONARY NUCLEI (see REVOLUTIONARY PEOPLE'S STRUGGLE) [FTO]

REVOLUTIONARY ORGANIZATION 17 NOVEMBER (a.k.a. 17 NOVEMBER; a.k.a. EPANASTATIKI ORGANOSI 17 NOEMVRI) [FTO]

REVOLUTIONARY ORGANIZATION OF SOCIALIST MUSLIMS (see ABU NIDAL ORGANIZATION) [SDT, FTO]

REVOLUTIONARY PEOPLE'S LIBERATION PARTY/FRONT (a.k.a. DEVRIMCI HALK KURTULUS PARTISI-CEPHESI; a.k.a. DHKP/C; a.k.a. DEVRIMCI SOL; a.k.a. REVOLUTIONARY LEFT; a.k.a. DEV SOL; a.k.a. DEV SOL SILAHLI DEVRIMCI BIRLIKLERI; a.k.a. DEV SOL SDB; a.k.a. DEV SOL ARMED REVOLUTIONARY UNITS) [FTO]

REVOLUTIONARY PEOPLE'S STRUGGLE (a.k.a. EPANASTATIKOS LAIKOS AGONAS; a.k.a. ELA; a.k.a. REVOLUTIONARY POPULAR STRUGGLE; a.k.a. POPULAR REVOLUTIONARY STRUGGLE; a.k.a. JUNE 78; a.k.a. ORGANIZATION OF REVOLUTIONARY INTERNATIONALIST SOLIDARITY; a.k.a. REVOLUTIONARY NUCLEI; a.k.a. REVOLUTIONARY CELLS; a.k.a. LIBERATION STRUGGLE) [FTO]

REVOLUTIONARY POPULAR STRUGGLE (see REVOLUTIONARY PEOPLE'S STRUGGLE) [FTO]

SAZEMAN-E MUJAHEDIN-E KHALQ-E IRAN (see MUJAHEDIN-E KHALQ ORGANIZATION) [FTO]

SENDERO LUMINOSO (see SHINING PATH) [FTO]

SHINING PATH (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a. EJERCITO GUERRILLERO POPULAR (PEOPLE'S GUERRILLA ARMY); a.k.a. EGP; a.k.a. EJERCITO POPULAR DE LIBERACION (PEOPLE'S LIBERATION ARMY); a.k.a. EPL) [FTO]

SL (see SHINING PATH) [FTO]

SOCORRO POPULAR DEL PERU (PEOPLE'S AID OF PERU) (see SHINING PATH) [FTO]

SPP (see SHINING PATH) [FTO]

STATE OF JUDEA (see KACH) [SDT, FTO]

STUDENTS OF AYYASH (see HAMAS) [SDT, FTO]

STUDENTS OF THE ENGINEER (see HAMAS) [SDT, FTO]

SUDAN PETROLEUM COMPANY LIMITED (see SUDAPET LTD.) [SUDAN]

SUDAPET (see SUDAPET LTD.) [SUDAN]

SUDAPET LTD. (a.k.a. SUDAPET, a.k.a. SUDAN PETROLEUM COMPANY LIMITED), El Nil Street, Khartoum, Sudan [SUDAN]

SWORD OF DAVID (see KACH) [SDT, FTO]

TAHRIKE ISLAMI'A TALIBAN (see TALIBAN) [TALIBAN]

TALEBAN (see TALIBAN) [TALIBAN]

TALIBAN (a.k.a. ISLAMIC MOVEMENT OF TALIBAN; a.k.a. TAHRIKE ISLAMI'A TALIBAN; a.k.a. TALEBAN; a.k.a TALIBAN ISLAMIC MOVEMENT; a.k.a. TALIBANO ISLAMI TAHRIK), Afghanistan [TALIBAN]

TALIBAN ISLAMIC MOVEMENT (see TALIBAN) [TALIBAN]

TALIBANO ISLAMI TAHRIK (see TALIBAN) [TALIBAN]

TAMIL TIGERS (see LIBERATION TIGERS OF TAMIL EELAM) [FTO]

TUPAC AMARU REVOLUTIONARY MOVEMENT (a.k.a. MOVIMIENTO REVOLUCIONARIO TUPAC AMARU; a.k.a. MRTA) [FTO]

USAMA BIN LADEN NETWORK (see AL QA'IDA) [SDT, FTO]

USAMA BIN LADEN ORGANIZATION (see AL QA'IDA) [SDT, FTO]

THE WAY OF THE TORAH (see KAHANE CHAI) [SDT, FTO]

WORLD ISLAMIC FRONT FOR JIHAD AGAINST JEWS AND CRUSADERS (see AL QA'IDA) [SDT, FTO]

YAHYA AYYASH UNITS (see HAMAS) [SDT, FTO]

THE YESHIVA OF THE JEWISH IDEA (see KACH) [SDT, FTO]

THE YESHIVA OF THE JEWISH IDEA (see KAHANE CHAI) [SDT, FTO]

Dated: May 11, 2000.
R. Richard Newcomb,
Director, Office of Foreign Assets Control.
Approved: May 24, 2000.
Elisabeth A. Bresee,
Assistant Secretary (Enforcement), Department of the Treasury.

[FR Doc. 00-15881 Filed 6-20-00; 4:22 pm]

BILLING CODE 4810-25-P